DEPARTMENT OF EDUCATION

[Docket No.: ED-2024-SCC-0115]

Agency Information Collection Activities; Submission to the Office of Management and Budget for Review and Approval; Comment Request; Evaluation of Teacher Residencies: District Perspective

AGENCY: Institute of Education Sciences (IES), Department of Education (ED).

ACTION: Notice.

SUMMARY: In accordance with the Paperwork Reduction Act (PRA) of 1995, the Department is proposing a new information collection request (ICR).

DATES: Interested persons are invited to submit comments on or before February 6, 2025.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Meredith Bachman, (202) 245-7494.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Evaluation of Teacher Residencies: District Perspective.

OMB Control Number: 1850-NEW.

Type of Review: New ICR.

Respondents/Affected Public: State, Local, and Tribal Governments.

Total Estimated Number of Annual Responses: 31.

Total Estimated Number of Annual Burden Hours: 93.

Abstract: The U.S. Department of Education (ED)'s Institute of Education Sciences (IES) requests clearance for data collection activities to evaluate teacher residency programs' contributions to the teacher workforce. Specifically, this request covers the collection of data to understand the extent to which teacher residency programs funded by ED's Teacher Quality Partnership (TQP) grants help diversify the teacher pipeline and fill hard-to-staff teaching positions in their partner districts. The Higher Education Act established the TQP program to support partnerships between teacher preparation programs and high-need districts to implement teacher residency programs. The study will collect data on newly hired teachers from the school districts and charter school networks (referred to throughout as “districts”) that partner with TQP grantees. If some districts are unable to provide data on new hires from TQP-funded residency programs, we will collect those data from TQP grantees.

Dated: January 2, 2025.
Juliana Pearson,
PRA Coordinator, Strategic Collections and Clearance, Governance and Strategy Division, Office of Chief Data Officer, Office of Planning, Evaluation and Policy Development.

[FR Doc. 2025-00010 Filed 1-6-25; 8:45 am]

BILLING CODE 4000-01-P